DEPARTMENT OF THE INTERIOR

National Park Service

[N6732; NPS-WASO-NAGPRA-NPS0041492; PPWOCRADN0-PCU00RP14.R50000]

Notice of Intended Repatriation: Berkshire Museum, Pittsfield, MA

AGENCY: National Park Service, Interior.

ACTION: Notice.

SUMMARY: In accordance with the Native American Graves Protection and Repatriation Act (NAGPRA), the Berkshire Museum intends to repatriate a certain cultural item that meets the definition of a sacred object and that has a cultural affiliation with the Indian Tribes or Native Hawaiian organizations in this notice.

DATES: Repatriation of the cultural item in this notice may occur on or after January 20, 2026.

ADDRESSES: Send additional, written requests for repatriation of the cultural item in this notice to Jason Vivori, Berkshire Museum, 39 South Street, Pittsfield, MA 01201, email jvivori@berkshiremuseum.org.

SUPPLEMENTARY INFORMATION: This notice is published as part of the National Park Service's administrative responsibilities under NAGPRA. The determinations in this notice are the sole responsibility of the Berkshire Museum, and additional information on the determinations in this notice, including the results of consultation, can be found in the summary or related records. The National Park Service is not responsible for the determinations in this notice.

Abstract of Information Available

A total of one cultural item has been requested for repatriation. The one sacred object is an 'ahu 'ula (feather cape). The 'ahu 'ula was gifted to the Berkshire Athenaeum by Clara E. Bidwell of Pittsfield, MA in 1877, and transferred to the Berkshire Museum in 1906. The donor was the cousin of Mercy Patridge Whitney. The object was first described in 1899 by William T. Brigham in his study of Hawaiian featherwork. The museum lacks sufficient documentation regarding the acquisition of the 'ahu'ula by Mercy Patridge Whitney to establish right of ownership or to establish lineal descent.

Determinations

The Berkshire Museum has determined that:

• The one sacred object described in this notice are specific ceremonial objects needed by a traditional Native American religious leader for present-day adherents to practice traditional Native American religion, according to the Native American traditional knowledge of a lineal descendant, Indian Tribe, or Native Hawaiian organization.

• There is a reasonable connection between the cultural item described in this notice and the Hui Iwi Kuamo'o.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 20, 2026. If competing requests for repatriation are received, the Berkshire Museum must determine the most appropriate requestor prior to repatriation. Requests for joint repatriation of the cultural item are considered a single request and not competing requests. The Berkshire Museum is responsible for sending a copy of this notice to the Indian Tribes and Native Hawaiian organizations identified in this notice and to any other consulting parties.

Authority: Native American Graves Protection and Repatriation Act, 25 U.S.C. 3004 and the implementing regulations, 43 CFR 10.9.

Dated: December 2, 2025.
Melanie O'Brien,
Manager, National NAGPRA Program.

[FR Doc. 2025-23184 Filed 12-17-25; 8:45 am]

BILLING CODE 4312-52-P